DEPARTMENT OF JUSTICE

Notice of Lodging of Proposed Modifcation to a Stipulated Order Under the Clean Water Act and Safe Drinking Water Act

On January 8, 2025, the Department of Justice lodged a proposed modification to Stipulated Order No. 1 that was entered in 2009 by the United States District Court for the Northern Mariana Islands in the lawsuit entitled United States v. Commonwealth Utilities Corp. et al., Civil Action No. 08-cv-0051 (dkt. No. 14).

Stipulated Order No. 1 requires the Commonwealth Utilities Corporation (CUC) to undertake certain measures to address violations of the Clean Water Act (CWA), 33 U.S.C. 1311 et seq. and Safe Drinking Water Act (SDWA), 42 U.S.C. 300f. et seq. with respect to its wastewater treatment and drinking water systems. An EPA inspection in December of 2023 found deficiencies in CUC's operation and maintenance of its drinking water system. The proposed modification requires CUC to correct these deficiencies and undertake certain measures to ensure future compliance with the CWA and SDWA.

The publication of this notice opens a period for public comment on the proposed modification. Comments should be addressed to the Assistant Attorney General, Environment and Natural Resources Division, and should refer to United States v. Commonwealth Utilities Corp. D.J. Ref. No. 90-5-1-1-08471. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without further notice to the commenter. During the public comment period, the Consent Decree may be examined and downloaded at this Justice Department website: https://www.justice.gov/enrd/consent-decrees. If you require assistance accessing Consent Decree, you may request assistance by email or by mail to the addresses provided above for submitting comments.

Scott Bauer,
Assistant Section Chief, Environmental Enforcement Section, Environment and Natural Resources Division.

[FR Doc. 2025-00686 Filed 1-14-25; 8:45 am]

BILLING CODE 4410-15-P